DEPARTMENT OF TRANSPORTATION

Federal Aviation Administration

Aviation Rulemaking Advisory Committee Transport Airplanes and Engine Issues—New Tasks

AGENCY: Federal Aviation Administration (FAA), DOT.

ACTION: Notice of new task assignment(s) for the Aviation Rulemaking Advisory Committee (ARAC).

SUMMARY: Notice is given of new tasks assigned to and accepted by the Aviation Rulemaking Advisory Committee (ARAC). This notice informs the public of the activities of ARAC.

FOR FURTHER INFORMATION CONTACT: Dorenda Baker, 601 Lind Ave., Renton, Washington 98055-4056, 425-227-2109, dorenda.baker@faa.gov.

SUPPLEMENTARY INFORMATION:

Background

The FAA has established an Aviation Rulemaking Advisory Committee to provide advice and recommendations to the FAA Administrator, through the Associate Administrator for Regulation and Certification, on the full range of the FAA's rulemaking activities with respect to aviation-related issues. This includes obtaining advice and recommendations on the FAA's commitment to harmonize Title 14 of the Code of Federal Regulations (14 CFR) with its partners in Europe and Canada.

The Tasks

This notice is to inform the public that the FAA has asked ARAC to provide advice and recommendation on the following harmonization tasks:

Task 1

Ground Loads: Review 14 CFR part 25, specifically § 25.471, Ground Loads: General, (through § 25.519), for adequacy for both conventional and unconventional gear configurations as well as for unusually heavy airplanes. This should include the review and implementation of existing special conditions for center gear configurations. Review the distribution of loads between the gear during the landing event as well as the distribution and magnitude of loads during ground handling events such as pivoting, turning, and braking.

Schedule: As a result of this review, develop a report recommending revisions to rules (including cost estimates) and advisory material as deemed necessary. The report and advisory material shall be submitted to the FAA within 18 months after the date of this notice.

Task 2

Towing Loads: Review of § 25.509, Towing loads, for adequacy for conventional airplanes as well as unusually heavy airplanes, and establish adequate limit design towing loads for all transport category airplanes taking into account all recognized means of towing, including towbarless towing vehicles.

Schedule: As a result of this review, develop a report recommending revisions to the rules (including cost estimates) and advisory material as deemed appropriate. The report and advisory material shall be submitted to the FAA within 24 months after the date of this notice.

Task 3

Landing Descent Velocity Measurement: Review the results of recent and ongoing landing descent velocity measurements and make recommendations in regard to the adequacy of the existing limit decent velocity requirements in § 25.473, Landing load conditions and assumptions, for conventional as well as usually heavy airplanes.

Schedule: As a result of this review, develop a report recommending revisions to the rules (including cost estimates) and advisory material as deemed necessary. The report and advisory material shall be submitted to the FAA within 24 months after the notice of the task is published.

If notices of proposed rulemaking and notices of proposed advisory circulars are published for public comment as a result of the recommendations in these reports, ARAC may be further asked to review all comments received, and provide the FAA with a recommendation for disposition of public comments for each project.

ARAC Acceptance of Tasks

ARAC has accepted the tasks and has chosen to assign the tasks to the Loads and Dynamics Harmonization Working Group of the ARAC Transport Airplanes and Engine Issues Group. The working group will serve as staff to ARAC to assist in the analysis of the assigned tasks. Working group recommendations must be reviewed and approved by ARAC. If ARAC accepts the working group's recommendations, it forwards them to the FAA as ARAC recommendations.

Working Group Activity

The Loads and Dynamics Harmonization Working Group is expected to comply with the procedures adopted by ARAC. As part of the procedures, the working group is expected to:

1. Recommend a work plan for completion of the tasks, including the rationale supporting such a plan, for consideration at the meeting of ARAC to Transport Airplane and Engines held following publication of this notice.

2. Give a detailed conceptual presentation of the proposed recommendation, prior to proceeding with the work stated in item 3 below.

3. For each task, draft appropriate documents with supporting economic and other required analyses, and/or any other related guidance material or collateral documents the working group determines to be appropriate, or, if new or revised requirements or compliance methods are not recommended, a draft report stating the rationale for not making such recommendations.

4. Provide a status report at each meeting of ARAC held to consider Transport Airplane and Engine issues.

The Secretary of Transportation has determined that the formation and use of ARAC are necessary and in the public interest in connection with the performance of duties imposed on the FAA by law.

Meetings of ARAC will be open to the public. Meetings of the Loads and Dynamics Harmonization Working Group will not be open to the public, except to the extent that individuals with an interest and expertise and selected to participate. No public announcement of working group meetings will be made.

Issued in Washington, DC, on September 21, 2000.
Anthony F. Fazio,
Executive Director, Aviation Rulemaking Advisory Committee.

[FR Doc. 00-24869 Filed 9-27-00; 8:45 am]

BILLING CODE 4910-13-M